DEPARTMENT OF COMMERCE

Foreign-Trade Zones Board

[B-28-2019]

Foreign-Trade Zone (FTZ) 38—Spartanburg County, South Carolina; Authorization of Production Activity; Michelin North America, Inc. (Tire Assemblies, Wheel Assemblies, Tire Pressure Monitoring Systems); Woodruff and Laurens, South Carolina

On April 8, 2019, Michelin North America, Inc., submitted a notification of proposed production activity to the FTZ Board for its facilities within Subzone 38L and Site 5 of FTZ 38, in Woodruff and Laurens, South Carolina.

The notification was processed in accordance with the regulations of the FTZ Board (15 CFR part 400), including notice in the Federal Register inviting public comment (84 FR 19034, May 3, 2019). On August 6, 2019, the applicant was notified of the FTZ Board's decision that no further review of the activity is warranted at this time. The production activity described in the notification was authorized, subject to the FTZ Act and the FTZ Board's regulations, including Section 400.14.

Dated: August 7, 2019.
Elizabeth Whiteman,
Acting Executive Secretary.

[FR Doc. 2019-17241 Filed 8-12-19; 8:45 am]

BILLING CODE 3510-DS-P